DEPARTMENT OF TRANSPORTATION

Surface Transportation Board

49 CFR Part 1243

[STB Ex Parte No. 661 (Sub-No. 1)]

Rail Fuel Surcharges

AGENCY: Surface Transportation Board, DOT.

ACTION: Notice of Proposed Rulemaking.

SUMMARY: In conjunction with the Surface Transportation Board's decision in Rail Fuel Surcharges, STB Ex Parte No. 661 (STB served Jan. 26, 2007), the Board has proposed to require all large (Class I) railroads to submit a monthly report containing the following information: total monthly fuel cost; gallons of fuel consumed during the month; increased or decreased cost of fuel over the previous month; and total monthly revenue from fuel surcharges.

DATES: Comments are due by April 2, 2007.

ADDRESSES: Comments may be submitted either via the Board's e-filing format or in the traditional paper format. Any person using e-filing should comply with the instructions at the E-FILING link on the Board's Web site, at http://www.stb.dot.gov. Any person submitting a filing in the traditional paper format should send an original and 10 copies to: Surface Transportation Board, Attn: STB Ex Parte No. 661 (Sub-No. 1), 1925 K Street, NW., Washington, DC 20423-0001.

Copies of written comments received by the Board will be available from the Board's contractor, ASAP Document Solutions (mailing address: Suite 103, 9332 Annapolis Rd., Lanham, MD 20706; e-mail address: asapdc@verizon.net; telephone number: 202-306-4004). The comments will also be available for viewing and self-copying in the Board's Public Docket Room, Room 755, and will be posted to the Board's Web site at http://www.stb.dot.gov.

FOR FURTHER INFORMATION, CONTACT: Joseph H. Dettmar at 202-565-1609. [Assistance for the hearing impaired is available through the Federal Information Relay Service (FIRS) at 1-800-877-8339.]

SUPPLEMENTARY INFORMATION: Under 49 U.S.C. 10702, the Board has the authority to address the reasonableness of a rail carrier's practices. And the Board has specific authority under 49 U.S.C. 11145(a)(1) to require regulated rail carriers to file annual, periodic, and special reports with the Board. The proposed monthly Report of Fuel Cost, Consumption, and Surcharge Revenues is intended to permit the Board to monitor the current fuel surcharge practices of the large (Class I) carriers. The proposed reporting form is included as Appendix A. See the Board's decision in this proceeding served January 26, 2007, for a discussion of the background and history of rail fuel surcharge reporting.

Pursuant to the Paperwork Reduction Act, 44 U.S.C. 3501 et seq. (PRA) and Office of Management and Budget (OMB) regulations at 5 CFR 1320.8(d)(3), the Board now seeks comments regarding: (1) Whether the particular collection of information described below is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Information pertinent to these issues is included in Appendix B. This proposed rule has been submitted to OMB for review as required under the PRA, 5 U.S.C. 3507(d) and 5 CFR 1320.11. In accordance with the PRA, an agency may not conduct or sponsor, and a person is not required to respond to, a collection of information unless the collection displays a currently valid OMB control number.

Pursuant to 5 U.S.C. 605(b), the Board certifies that this action will not have a significant economic effect on a substantial number of small entities within the meaning of the Regulatory Flexibility Act.

This action will not significantly affect either the quality of the human environment or the conservation of energy resources.

List of Subjects in 49 CFR Part 1243

Quarterly Operating Reports—Railroads.

Authority: 49 U.S.C. 11144, 49 U.S.C. 11145.

Decided: January 25, 2007.
By the Board, Chairman Nottingham, Vice Chairman Buttrey, and Commissioner Mulvey.
Vernon A. Williams,
Secretary.

For the reasons set forth in the preamble, the Surface Transportation Board proposes to amend part 1243 of title 49, chapter C, of the Code of Federal Regulations as follows:

PART 1243—QUARTERLY AND MONTHLY OPERATING REPORTS—RAILROADS

1. Revise the heading of part 1243 to read as set forth above.

2. The authority citation for part 1243 continues to read as follows:

Authority: 49 U.S.C. 11144, 49 U.S.C. 11145.

3. Add a new § 1243.3 to read as follows:

§ 1243.3 Report of fuel cost, consumption, and surcharge revenue.

Commencing with reports regarding the month of [first month beginning 90 days after publication of final rule] 2007, and monthly thereafter, all Class I line-haul railroad companies are required to file a Report of Fuel Cost, Consumption, and Surcharge Revenue, in accordance with the Board's reporting form. Such monthly reports shall be filed, in duplicate, in the Office of Economics, Environmental Analysis, and Administration, Surface Transportation Board, Washington, DC 20423-0001, within 20 days after the end of the month reported.

Editorial Note: The following appendices will not appear in the Code of Federal Regulations.

BILLING CODE 4915-01-P

BILLING CODE 4915-01-C

Appendix B

The additional information below is included to assist those who may wish to submit comments pertinent to review under the Paperwork Reduction Act:

Description of Collection

Title: Report of Fuel Cost, Consumption, and Surcharge Revenue.

OMB Control Number: 2140-XXXX.

STB Form Number: None.

Type of Review: New collection.

Respondents: Class I railroads (railroads with operating revenues exceeding $250 million in 1991 dollars).

Number of Respondents: 7.

Estimated Time per Response: 1 hour (after one-time start-up expenditure of 8 hours).

Frequency: Monthly.

Total Burden Hours (annually including all respondents): 84 hours.

Total “Non-hour Burden” Cost: None identified.

Needs and Uses: Under 49 U.S.C. 10702, the Surface Transportation Board has the authority to address the reasonableness of a rail carrier's practices. The proposed information collection is intended to permit the Board to monitor the current fuel surcharge practices of the Class I carriers. Failure to collect this information would impede the Board's ability to fulfill its responsibilities under 49 U.S.C. 10702. The Board has authority to collect information about rail costs and revenues under 49 U.S.C. 11144 and 11145.

Retention Period: Information in this report will be maintained on the Board's Web site for a minimum of one year and will be otherwise maintained by the Board for a minimum of two years.

[FR Doc. E7-1640 Filed 1-31-07; 8:45 am]

BILLING CODE 4915-01-P